ENVIRONMENTAL PROTECTION AGENCY

[FRL-7508-3]

Clean Water Act Section 303(d): Availability of List Decision

AGENCY: Environmental Protection Agency (EPA).

ACTION: Notice of availability.

SUMMARY: This notice announces the availability of an EPA decision identifying water quality limited segments and associated pollutants in California to be listed pursuant to Clean Water Act section 303(d)(2), and requests public comment. Section 303(d)(2) requires that states submit and EPA approve or disapprove lists of waters for which existing technology-based pollution controls are not stringent enough to attain or maintain state water quality standards and for which total maximum daily loads (TMDLs) must be prepared.

On June 5, 2003, EPA partially approved and partially disapproved California's list submittal for the 2002 listing cycle. Specifically, EPA approved California's listing of 679 waters, associated pollutants, and associated priority rankings. EPA disapproved California's decisions not to list 5 water quality limited segments and associated pollutants, and additional pollutants for 15 water bodies already listed by the State. EPA identified these additional water bodies and pollutants along with priority rankings for inclusion on the 2002 section 303(d) list.

EPA is providing the public the opportunity to review its decisions to add waters and pollutants to California's 2002 section 303(d) list, as required by EPA's Public Participation regulations (40 CFR part 25). EPA will consider public comments in reaching its final decisions on the additional water bodies and pollutants identified for inclusion on California's list.

DATES: Comments must be submitted to EPA on or before July 8, 2003.

ADDRESSES: Comments on the proposed decisions should be sent to David Smith, TMDL Team Leader, Water Division, U.S. Environmental Protection Agency Region IX, 75 Hawthorne Street, San Francisco, CA 94105, telephone (415) 972-3416, facsimile (415) 947-3537, e-mail smith.davidw@epa.gov. Oral comments will not be considered. Copies of EPA's decision concerning California's list that explain the rationale for EPA's decisions can be obtained at EPA Region 9's Web site at http://www.epa.gov/region09/water/TMDL by writing or calling Mr. Smith at the above address. Underlying documentation comprising the record for these decisions is available for public inspection at the above address.

FOR FURTHER INFORMATION CONTACT: David Smith at (415) 972-3416 or smith.davidw@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA (40 CFR 130.7). The regulations require states to identify water quality limited waters still requiring TMDLs every two years. The lists of waters still needing TMDLs must also include priority rankings and must identify the waters targeted for TMDL development during the next two years (40 CFR 130.7). On March 31, 2000, EPA promulgated a revision to this regulation that waived the requirement for states to submit section 303(d) lists in 2000 except in cases where a court order, consent decree, or settlement agreement required EPA to take action on a list in 2000 (65 FR 17170).

Consistent with EPA's regulations, California submitted to EPA its listing decisions under section 303(d)(2) on March 3, 2003 along with several followup submittals. On June 5, 2003, EPA approved California's listing of 679 waters and associated priority rankings. EPA disapproved California's decisions not to list 5 water quality limited segments and associated pollutants, and additional pollutants for 15 water bodies already listed by the State. EPA identified these additional waters and pollutants along with priority rankings for inclusion on the 2002 section 303(d) list. EPA solicits public comment on its identification of 5 additional waters and associated pollutants, and additional pollutants for 15 waters already listed by the State, for inclusion on California's 2002 section 303(d) list.

Dated: May 30, 2003.
Karen Schwinn,
Acting Director, Water Division, Region IX.

[FR Doc. 03-14194 Filed 6-4-03; 8:45 am]

BILLING CODE 6560-50-P